DEPARTMENT OF THE INTERIOR

National Park Service

[NPS-PWRO-KALA-18981; PPPWKALA00; PPMPSPD1Z.YM0000]

Request for Nominations for the Kalaupapa National Historical Park Advisory Commission

AGENCY: National Park Service, Interior.

ACTION: Request for nominations.

SUMMARY: The National Park Service, (NPS) U.S. Department of the Interior, proposes to appoint new members to the Kalaupapa National Historical Park Advisory Commission (Commission). The NPS is requesting nominations for qualified persons to serve as members of the Commission.

DATES: Written nominations must be received by November 9, 2015.

ADDRESSES: Nominations should be sent to Erika Stein Espaniola, Superintendent and Designated Federal Official, Kalaupapa National Historical Park, P.O. Box 2222, Kalaupapa, Hawaii 96742, telephone (808) 567-6802, ext. 1100.

FOR FURTHER INFORMATION CONTACT: Erika Stein Espaniola, Superintendent and Designated Federal Official, Kalaupapa National Historical Park, P.O. Box 2222, Kalaupapa, Hawaii 96742, telephone (808) 567-6802, ext. 1100.

SUPPLEMENTARY INFORMATION: The Commission was established by Section 108 of Public Law 96-565 (16 U.S.C. 410jj-7), December 22, 1980, as amended. The Commission's current termination date is December 22, 2025. In accordance with the statute, the Secretary of the Interior consults with and seeks advice of the Commission with respect to the development and operation of the Kalaupapa National Historical Park (Park) including training programs. In addition, the Commission advises the Secretary concerning public visitation to the Park, such advice with respect to numbers of visitors will be binding upon the Secretary if the Commission certifies to him or her that such advice is based on a referendum, held under the auspices of the Commission, of all patients on the official Kalaupapa Registry.

The Commission consists of eleven members, appointed by the Secretary as follows:

(1) Seven members who shall be present or former patients elected by the patient community; and

(2) Four members appointed from recommendations submitted by the Governor of Hawaii, at least one of whom shall be a Native Hawaiian.

The Secretary designates one member of the Commission to serve as Chairman. Members are appointed to five-year terms. Vacancies on the Commission will be filled in the same manner in which the original appointment was made.

We are currently seeking members in both categories.

Nominations should be typed and should include a resume providing an adequate description of the nominee's qualifications, including information that would enable the Department of the Interior to make an informed decision regarding meeting the membership requirements of the Commission and permit the Department of the Interior to contact a potential member.

Members of the Commission serve without compensation. However, while away from their homes or regular places of business in the performance of services for the Commission as approved by the Designated Federal Officer, members may be allowed travel expenses, including per diem in lieu of subsistence, in the same manner as persons employed intermittently in Government service are allowed such expenses under Section 5703 of Title 5 of the United States Code.

Individuals who are Federally registered lobbyists are ineligible to serve on all FACA and non-FACA boards, committees, or councils in an individual capacity. The term “individual capacity” refers to individuals who are appointed to exercise their own individual best judgment on behalf of the government, such as when they are designated Special Government Employees, rather than being appointed to represent a particular interest.

All nominations must be compiled and submitted in one complete package. Incomplete submissions (missing one or more of the items described above) will not be considered.

Dated: September 22, 2015.
Alma Ripps,
Chief, Office of Policy.

[FR Doc. 2015-25732 Filed 10-8-15; 8:45 am]

BILLING CODE 4310-EE-P